DEPARTMENT OF THE INTERIOR

Bureau of Indian Affairs

[167 A2100DD/AAKC001030/A0A501010.999900]

Renewal of Agency Information Collection for Navajo Partitioned Lands Grazing Permits

AGENCY: Bureau of Indian Affairs, Interior.

ACTION: Notice of submission to OMB.

SUMMARY: In compliance with the Paperwork Reduction Act of 1995, the Bureau of Indian Affairs (BIA) has submitted to the Office of Management and Budget (OMB) a request for renewal of the collection of information for Navajo Partitioned Lands Grazing Permits authorized by OMB Control Number 1076-0162. This information collection expires July 31, 2016.

DATES: Interested persons are invited to submit comments on or before August 25, 2016.

ADDRESSES: Please submit your comments to the Desk Officer for the Department of the Interior at the Office of Management and Budget, by facsimile to (202) 395-5806 or you may send an email to: OIRA_Submission@omb.eop.gov. Also please send a copy of your comments to Derrith Watchman-Moore, Office of Trust Services, Branch of Natural Resources, P.O. Box 1060, Gallup, New Mexico 87105; telephone: (505) 863-8221; email: derrith.watchman-moore@bia.gov.

FOR FURTHER INFORMATION CONTACT: Derrith Watchman-Moore, Office of Trust Services, Branch of Natural Resources, P.O. Box 1060, Gallup, New Mexico 87105; telephone: (505) 863-8221; email: derrith.watchman-moore@bia.gov. You may review the information collection request online at http://www.reginfo.gov. Follow the instructions to review Department of the Interior collections under review by OMB.

SUPPLEMENTARY INFORMATION:

I. Abstract

This information collection is authorized under 25 CFR 161, which implements the Navajo-Hopi Indian Relocation Amendments Act of 1980, 94 Stat. 929, codified as 25 U.S.C. 640d-640d-31, and the Federal court decisions of Healing v. Jones, 174 F. Supp.211 (D Ariz. 1959) (Healing I), Healing v. Jones, 210 F. Supp. 126 (D. Ariz. 1962), aff'd 363 U.S. 758 (1963) (Healing II), Hopi Tribe v. Watt, 530 F. Supp. 1217 (D. Ariz. 1982), and Hopi Tribe v. Watt, 719 F.2d 314(9th Cir. 1983). Another law and ruling affecting grazing include Public Law 103-177, the American Indian Agricultural Resource Management Act, as amended and codified as 25 U.S.C. 3701 et seq., authorizes the Secretary of the Interior, in participating with the beneficial owner of the land, to manage Indian agricultural lands in a manner consistent with trust responsivities and with identified Tribal goals and priorities for conservation, multiple use, and sustained yield.

This information collection allows BIA to receive the information necessary to determine whether an applicant to obtain, modify, or assign a grazing permit on Navajo Partitioned Lands is eligible and complies with all applicable grazing permit requirements. BIA, in coordination with the Navajo Nation, will continue to collect grazing permit information up to and beyond the initial reissuing of the grazing permits, likely within a 1-3 year time period from the date of publication of this notice. The data is maintained by BIA's Navajo Partitioned Land office. The burden hours for this continued collection of information are reflected in the Estimated Total Annual Hour Burden in this notice.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0162.

Title: Navajo Partitioned Lands Grazing Permits, 25 CFR 161.

Brief Description of Collection: Submission of information is required for Navajo Nation Tribal members wanting to obtain, modify, or assign a grazing permit on Navajo partitioned lands, and the BIA will seek concurrence from the Navajo Nation to issue grazing permits.

Type of Review: Revision of a currently approved collection.

Respondents: Navajo Nation Tribal members and the Navajo Nation.

Number of Respondents: 700.

Number of Responses: 3,121.

Frequency of Response: Annually.

Obligation to Respond: Responses are required to obtain or maintain a benefit.

Estimated Time per Response: Varies from quarter of an hour to one hour, with an average of less than one hour per response.

Estimated Total Annual Hour Burden: 2,123.

Estimated Total Annual Non-Hour Dollar Cost: $0.

Elizabeth K. Appel,
Director, Office of Regulatory Affairs and Collaborative Action—Indian Affairs.

[FR Doc. 2016-17546 Filed 7-25-16; 8:45 am]

BILLING CODE 4337-15-P